DEPARTMENT OF COMMERCE

International Trade Administration

[A-533-897, A-557-821, A-469-823]

Utility Scale Wind Towers From India, Malaysia, and Spain: Initiation of Less-Than-Fair-Value Investigations

AGENCY: Enforcement and Compliance, International Trade Administration, Department of Commerce.

DATES: Applicable November 9, 2020.

FOR FURTHER INFORMATION CONTACT: Terre Keaton Stefanova at (202) 482-1280 (India); Justin Neuman at (202) 482-0468 (Malaysia); and Benito Ballesteros at (202) 482-7425 (Spain); AD/CVD Operations, Enforcement and Compliance, International Trade Administration, U.S. Department of Commerce, 1401 Constitution Avenue NW, Washington, DC 20230.

SUPPLEMENTARY INFORMATION: The Petitions

On September 30, 2020, the Department of Commerce (Commerce) received antidumping duty (AD) petitions concerning imports of utility scale wind towers (wind towers) from India, Malaysia, and Spain, filed in proper form on behalf of the Wind Tower Trade Coalition (the petitioner), the members of which are domestic producers of wind towers.¹ The Petitions were accompanied by countervailing duty (CVD) petitions concerning imports of wind towers from India and Malaysia.²

¹ See Petitioner's Letter, “Utility Scale Wind Towers from India, Malaysia and Spain: Petitions for the Imposition of Antidumping and Countervailing Duties,” dated September 30, 2020 (collectively, the Petitions). The members of the Wind Tower Trade Coalition are Arcosa Wind Towers Inc. and Broadwind Towers, Inc.

² Id.

During the period October 5 through 20, 2020, Commerce requested supplemental information pertaining to certain aspects of the Petitions in separate supplemental questionnaires.³ The petitioner filed responses to the supplemental questionnaires between October 7 and October 21, 2020.⁴

³ See Commerce's Letters, “Petitions for the Imposition of Antidumping Duties on Imports of Utility Scale Wind Towers from India, Malaysia and Spain and Countervailing Duties on Imports from India and Malaysia: Supplemental Questions,” dated October 5, 2020); see also Country-Specific Supplemental Questionnaires: India Supplemental, Malaysia Supplemental, and Spain Supplemental, dated October 5, 2020; and Memoranda, “Phone Call with Counsel to the Petitioner,” dated October 16 and 20, 2020.

⁴ See Petitioner's Letter, “Utility Scale Wind Towers from India, Malaysia and Spain: Response to First Supplemental Questions on General Issues and Injury Volume I of the Petition,” dated October 7, 2020 (General Issues Supplement); see also Petitioner's Letters, “Utility Scale Wind Towers from India: Response to First Supplemental Questions on India AD Volume II of the Petition,” dated October 9, 2020; “Utility Scale Wind Towers from Malaysia: Response to First Supplemental Questions on Malaysia AD Volume III of the Petition,” dated October 9, 2020; and “Utility Scale Wind Towers from Spain: Response to First Supplemental Questions on Spain AD Volume IV of the Petition,” dated October 9, 2020; Petitioner's Letters, “Utility Scale Wind Towers from India: Response to Second Supplemental Questions on India AD Volume II of the Petitions,” dated October 19, 2020; and “Utility Scale Wind Towers from Malaysia: Response to Second Supplemental Questions on Malaysia AD Volume III of the Petitions,” dated October 19, 2020; and Petitioner's Letters, “Utility Scale Wind Towers from India: Response to Request for Clarification on India Volume II of the Petition,” dated October 21, 2020; and “Utility Scale Wind Towers from Malaysia: Response to Request for Clarification on Malaysia Volume III of the Petition,” dated October 21, 2020.

On October 7, 2020, Commerce extended the initiation deadline by 20 days to poll the domestic industry in accordance with section 732(c)(4)(D) of the Tariff Act of 1930, as amended (the Act), because “the Petitions have not established that the domestic producers or workers accounting for more than 50 percent of total production support the Petitions.” ⁵

⁵ See Notice of Extension of the Deadline for Determining the Adequacy of the Antidumping and Countervailing Duty Petitions: Utility Scale Wind Towers from India, Malaysia, and Spain, 85 FR 65028 (October 14, 2020) (Initiation Extension Notice).

In accordance with section 732(b) of the Act, the petitioner alleges that imports of wind towers from India, Malaysia, and Spain are being, or are likely to be, sold in the United States at less than fair value (LTFV) within the meaning of section 731 of the Act, and that imports of such products are materially injuring, or threatening material injury to, the wind towers industry in the United States. Consistent with section 732(b)(1) of the Act, the Petitions are accompanied by information reasonably available to the petitioner supporting its allegations.

Commerce finds that the petitioner filed the Petitions on behalf of the domestic industry, because the petitioner is an interested party, as defined in sections 771(9)(C) and (E) of the Act. Commerce also finds that the petitioner demonstrated sufficient industry support for the initiation of the requested LTFV investigations.⁶

⁶ See infra, section on “Determination of Industry Support for the Petitions.”

Periods of Investigation

Because the Petitions were filed on September 30, 2020, the period of investigation (POI) for these LTFV investigations is July 1, 2019 through June 30, 2020, pursuant to 19 CFR 351.204(b)(1).⁷

⁷ See 19 CFR 351.204(b)(1).

Scope of the Investigations

The products covered by these investigations are wind towers from India, Malaysia, and Spain. For a full description of the scope of these investigations, see the appendix to this notice.

Comments on the Scope of the Investigations

As discussed in the Preamble to Commerce's regulations, we are setting aside a period for interested parties to raise issues regarding product coverage (i.e., scope).⁸ Commerce will consider all comments received from interested parties and, if necessary, will consult with interested parties prior to the issuance of the preliminary determinations. If scope comments include factual information,⁹ all such factual information should be limited to public information. To facilitate preparation of its questionnaires, Commerce requests that all interested parties submit such comments by 5:00 p.m. Eastern Time (ET) on November 30, 2020, which is the next business day after 20 calendar days from the signature date of this notice.¹⁰ Any rebuttal comments, which may include factual information, must be filed by 5:00 p.m. ET on December 10, 2020, which is 10 calendar days from the initial comment deadline.

⁸ See Antidumping Duties; Countervailing Duties, Final Rule, 62 FR 27296, 27323 (May 19, 1997) (Preamble).

⁹ See 19 CFR 351.102(b)(21) (defining “factual information”).

¹⁰ In this case, 20 days after initiation falls on November 29, 2020, a Sunday. Where a deadline falls on a weekend federal holiday, the appropriate deadline is the next business day. See Notice of Clarification: Application of “Next Business Day” Rule for Administrative Determination Deadlines Pursuant to the Tariff Act of 1930, As Amended, 70 FR 24533 (May 10, 2005) (Next Business Day Rule).

Commerce requests that any factual information that parties consider relevant to the scope of these investigations be submitted during this period. However, if a party subsequently finds that additional factual information pertaining to the scope of these investigations may be relevant, the party may contact Commerce and request permission to submit the additional information. All such submissions must be filed on the records of each of the concurrent AD and CVD investigations.

Filing Requirements

All submissions to Commerce must be filed electronically via Enforcement and Compliance's AD and CVD Centralized Electronic Service System (ACCESS), unless an exception applies.¹¹ An electronically filed document must be received successfully in its entirety by the time and date on which it is due.

¹¹ See Antidumping and Countervailing Duty Proceedings: Electronic Filing Procedures; Administrative Protective Order Procedures, 76 FR 39263 (July 6, 2011); see also Enforcement and Compliance; Change of Electronic Filing System Name, 79 FR 69046 (November 20, 2014), for details of Commerce's electronic filing requirements, effective August 5, 2011. Information on help using ACCESS can be found at https://access.trade.gov/help.aspx and a handbook can be found at https://access.trade.gov/help/Handbook_on_Electronic_Filing_Procedures.pdf.

Comments on Product Characteristics

Commerce is providing interested parties an opportunity to comment on the appropriate physical characteristics of wind towers to be reported in response to Commerce's AD questionnaires. This information will be used to identify the key physical characteristics of the subject merchandise in order to report the relevant costs of production accurately, as well as to develop appropriate product-comparison criteria.

Interested parties may provide any information or comments that they feel are relevant to the development of an accurate list of physical characteristics. Specifically, they may provide comments as to which characteristics are appropriate to use as: (1) General product characteristics, and (2) product comparison criteria. We note that it is not always appropriate to use all product characteristics as product comparison criteria. We base product comparison criteria on meaningful commercial differences among products. In other words, although there may be some physical product characteristics utilized by manufacturers to describe wind towers, it may be that only a select few product characteristics take into account commercially meaningful physical characteristics. In addition, interested parties may comment on the order in which the physical characteristics should be used in matching products. Generally, Commerce attempts to list the most important physical characteristics first and the least important characteristics last.

In order to consider the suggestions of interested parties in developing and issuing the AD questionnaires, all product characteristics comments must be filed by 5:00 p.m. ET on November 30, 2020, which is the next business day after 20 calendar days from the signature date of this notice.¹² Any rebuttal comments must be filed by 5:00 p.m. ET on December 10, 2020, which is 10 calendar days from the initial comment deadline. All comments and submissions to Commerce must be filed electronically using ACCESS, as explained above, on the record of each of the AD investigations.

¹² See Next Business Day Rule, 70 FR at 24533.

Determination of Industry Support for the Petitions

Section 732(b)(1) of the Act requires that a petition be filed on behalf of the domestic industry. Section 732(c)(4)(A) of the Act provides that a petition meets this requirement if the domestic producers or workers who support the petition account for: (i) At least 25 percent of the total production of the domestic like product; and (ii) more than 50 percent of the production of the domestic like product produced by that portion of the industry expressing support for, or opposition to, the petition. Moreover, section 732(c)(4)(D) of the Act provides that, if the petition does not establish support of domestic producers or workers accounting for more than 50 percent of the total production of the domestic like product, Commerce shall: (i) Poll the industry or rely on other information in order to determine if there is support for the petition, as required by subparagraph (A); or (ii) determine industry support using a statistically valid sampling method to poll the “industry.”

Section 771(4)(A) of the Act defines the “industry” as the producers as a whole of a domestic like product. Thus, to determine whether a petition has the requisite industry support, the statute directs Commerce to look to producers and workers who produce the domestic like product. The International Trade Commission (ITC), which is responsible for determining whether “the domestic industry” has been injured, must also determine what constitutes a domestic like product in order to define the industry. While both Commerce and the ITC must apply the same statutory definition regarding the domestic like product,¹³ they do so for different purposes and pursuant to a separate and distinct authority. In addition, Commerce's determination is subject to limitations of time and information. Although this may result in different definitions of the like product, such differences do not render the decision of either agency contrary to law.¹⁴

¹³ See section 771(10) of the Act.

¹⁴ See USEC, Inc. v. United States, 132 F. Supp. 2d 1, 8 (CIT 2001) (citing Algoma Steel Corp., Ltd. v. United States, 688 F. Supp. 639, 644 (CIT 1988), aff'd 865 F.2d 240 (Fed. Cir. 1989)).

Section 771(10) of the Act defines the domestic like product as “a product which is like, or in the absence of like, most similar in characteristics and uses with, the article subject to an investigation under this title.” Thus, the reference point from which the domestic like product analysis begins is “the article subject to an investigation” (i.e., the class or kind of merchandise to be investigated, which normally will be the scope as defined in the petition).

With regard to the domestic like product, the petitioner does not offer a definition of the domestic like product distinct from the scope of the investigations.¹⁵ Based on our analysis of the information submitted on the record, we have determined that wind towers, as defined in the scope, constitute a single domestic like product, and we have analyzed industry support in terms of that domestic like product.¹⁶

¹⁵ See Volume I of the Petitions at 19-21; see also General Issues Supplement at Exhibit I-Supp-1.

¹⁶ For a discussion of the domestic like product analysis as applied to these cases and information regarding industry support, see Antidumping Duty Investigation Initiation Checklists: Utility Scale Wind Towers from India, Malaysia, and Spain, dated November 9, 2020 (Country-Specific AD Initiation Checklists) at Attachment II, Analysis of Industry Support for the Antidumping and Countervailing Duty Petitions Covering Utility Scale Wind Towers from India, Malaysia, and Spain. These checklists are dated concurrently with this notice and on file electronically via ACCESS.

Based on information provided in the Petitions, the supporters of the Petitions did not account for more than 50 percent of total production of the domestic like product in 2019. Therefore, on October 7, 2020, Commerce extended the initiation deadline by 20 days to poll the domestic industry in accordance with section 732(c)(4)(D) of the Act.¹⁷

¹⁷ See Initiation Extension Notice; see also Attachment II of the country-specific AD Initiation Checklists.

On October 8, 2020, we issued polling questionnaires to all known producers of wind towers identified in the Petitions.¹⁸ We requested that each company complete the polling questionnaire and certify its response by the due date specified in the cover letter to the questionnaire.¹⁹ We received responses to these questionnaires on October 20, 2020.²⁰ The petitioner provided comments on the polling questionnaire responses on October 26, 2020.²¹

¹⁸ See Memorandum, “Utility Scale Wind Towers from India, Malaysia, and Spain: Polling Questionnaire,” dated October 8, 2020; see also Volume I of the Petitions at 2 and Exhibits I-1 and I-2.

¹⁹ For a detailed discussion of the responses received, see Attachment II of the Country-Specific AD Initiation Checklists. The polling questionnaire and questionnaire responses are on file electronically via ACCESS.

²⁰ Id.

²¹ See Petitioner's Letter, “Utility Scale Wind Towers from India, Malaysia, and Spain: Petitioner's Comments Regarding the Responses to the Polling Questionnaire and Industry Support,” dated October 26, 2020.

Section 732(c)(4)(B) of the Act states that: (i) Commerce “shall disregard the position of domestic producers who oppose the petition if such producers are related to foreign producers, as defined in section 771(4)(B)(ii), unless such domestic producers demonstrate that their interests as domestic producers would be adversely affected by the imposition of an antidumping duty order;” and (ii) Commerce “may disregard the position of domestic producers of a domestic like product who are importers of the subject merchandise.” In addition, 19 CFR 351.203(e)(4) states that the position of a domestic producer that opposes the petition: (i) Will be disregarded if such producer is related to a foreign producer or to a foreign exporter under section 771(4)(B)(ii) of the Act, unless such domestic producer demonstrates to the Secretary's satisfaction that its interests as a domestic producer would be adversely affected by the imposition of an antidumping order; and (ii) may be disregarded if the producer is an importer of the subject merchandise or is related to such an importer under section 771(4)(B)(ii) of the Act.

We received opposition to the Petitions from producers that are related to foreign producers of subject merchandise and/or who imported subject merchandise from the subject countries. We have analyzed the information provided in the polling questionnaire responses and information provided in other submissions to Commerce. Based on our analysis, we disregarded opposition to certain of the Petitions, pursuant to section 732(c)(4)(B) of the Act. When such opposition is disregarded in those cases, the industry support requirements of section 732(c)(4)(A) of the Act are satisfied.²²

²² See Attachment II of the Country-Specific AD Initiation Checklists.

Accordingly, Commerce determines that the industry support requirements of section 732(c)(4)(A) of the Act have been met and that the Petitions were filed on behalf of the domestic industry within the meaning of section 732(b)(1) of the Act.²³

²³ Id.

Allegations and Evidence of Material Injury and Causation

The petitioner alleges that the U.S. industry producing the domestic like product is being materially injured, or is threatened with material injury, by reason of the imports of the subject merchandise sold at LTFV. In addition, the petitioner alleges that subject imports exceed the negligibility threshold provided for under section 771(24)(A) of the Act.²⁴

²⁴ See Volume I of the Petitions at 27-28 and Exhibit I-18.

The petitioner contends that the industry's injured condition is illustrated by a significant and increasing absolute and relative volume of subject imports; underselling and price depression or suppression; declining financial performance; declining production, U.S. shipments, and capacity utilization; negative impact on employment variables; and lost sales and revenues.²⁵ We assessed the allegations and supporting evidence regarding material injury, threat of material injury, causation, as well as negligibility, and we have determined that these allegations are properly supported by adequate evidence, and meet the statutory requirements for initiation.²⁶

²⁵ Id. at 18-19, 22-42 and Exhibits I-3, I-5, I-6, I-18, I-20, I-21, and I-23 through I-25.

²⁶ See Country-Specific AD Initiation Checklists at Attachment III, Analysis of Allegations and Evidence of Material Injury and Causation for the Antidumping and Countervailing Duty Petitions Covering Utility Scale Wind Towers from India, Malaysia, and Spain (Attachment III).

Allegations of Sales at LTFV

The following is a description of the allegations of sales at LTFV upon which Commerce based its decision to initiate these LTFV investigations of imports of wind towers from India, Malaysia, and Spain. The sources of data for the deductions and adjustments relating to U.S. price and normal value (NV) are discussed in greater detail in the Country-Specific AD Initiation Checklists.²⁷

²⁷ See Country-Specific AD Initiation Checklists.

U.S. Price

For India, Malaysia, and Spain, the petitioner based export price (EP) on the average unit values of publicly available import data. The petitioner made certain adjustments to U.S. price to calculate a net ex-factory U.S. price.²⁸

²⁸ Id.

Normal Value 29

²⁹ In accordance with section 773(b)(2) of the Act, for these investigations, Commerce will request information necessary to calculate the constructed value and cost of production (COP) to determine whether there are reasonable grounds to believe or suspect that sales of the foreign like product have been made at prices that represent less than the COP of the product.

For India, Malaysia, and Spain, the petitioner stated it was unable to obtain home market or third country prices to use as a basis for NV; therefore, the petitioner calculated NV based on constructed value (CV).³⁰ For further discussion of CV, see the section “Normal Value Based on Constructed Value.”

³⁰ See Country-Specific AD Initiation Checklists.

Normal Value Based on Constructed Value

As noted above, the petitioner was not able to obtain home market prices or third country prices to use as a basis for NV. Accordingly, the petitioner based NV on CV.³¹ Pursuant to section 773(e) of the Act, the petitioner calculated CV as the sum of the cost of manufacturing, selling, general, and administrative expenses, financial expenses, and profit.³²

³¹ Id.

³² Id.

Fair Value Comparisons

Based on the data provided by the petitioner, there is reason to believe that imports of wind towers from India, Malaysia, and Spain are being, or are likely to be, sold in the United States at LTFV. Based on comparisons of EP to CV in accordance with sections 772 and 773 of the Act, the estimated dumping margins for wind towers for each of the countries covered by this initiation are as follows: (1) India—54.03 percent; (2) Malaysia—93.83 percent; and (3) Spain—73.00 percent.³³

³³ Id.

Initiation of LTFV Investigations

Based upon the examination of the Petitions and supplemental responses, we find that they meet the requirements of section 732 of the Act. Therefore, we are initiating these LTFV investigations to determine whether imports of wind towers from India, Malaysia, and Spain are being, or are likely to be, sold in the United States at LTFV. In accordance with section 733(b)(1)(A) of the Act and 19 CFR 351.205(b)(1), unless postponed, we will make our preliminary determinations no later than 140 days after the date of this initiation.

Respondent Selection

In the Petitions, the petitioner named four companies in India and three companies in Spain ³⁴ as producers and/or exporters of wind towers.

³⁴ See Volume I of the Petitions at Exhibit I-17.

Following standard practice in LTFV investigations involving market economy countries, in the event Commerce determines that the number of exporters or producers in any individual case is large such that Commerce cannot individually examine each company based upon its resources, where appropriate, Commerce intends to select mandatory respondents in that case based on U.S. Customs and Border Protection (CBP) data for U.S. imports under the appropriate Harmonized Tariff Schedule of the United States numbers listed in the “Scope of the Investigations,” in the appendix.

On November 2, 2020, Commerce released CBP data on imports of wind towers from India and Spain under Administrative Protective Order (APO) to all parties with access to information protected by APO and indicated that interested parties wishing to comment on the CBP data must do so within three business days of the publication date of the notice of initiation of these investigations.³⁵ Commerce will not accept rebuttal comments regarding the CBP data or respondent selection.

³⁵ See Memoranda, “Antidumping Duty Petition on Utility Scale Wind Towers from India: Release of Customs Data from U.S. Customs and Border Protection,” and “Antidumping Duty Petition on Utility Scale Wind Towers from Spain: Release of Customs Data from U.S. Customs and Border Protection,” dated November 2, 2020.

Interested parties must submit applications for disclosure under APO in accordance with 19 CFR 351.305(b). Instructions for filing such applications may be found on Commerce's website at https://enforcement.trade.gov/apo.

In the Petitions, the petitioner named only one company as a producer/exporter of wind towers in Malaysia, CS Wind Malaysia Sdn Bhd (CS Wind Malaysia).³⁶ Furthermore, we placed CBP import data onto the record of this proceeding, which corroborates the identification of CS Wind Malaysia as the sole producer/exporter in the foreign market,³⁷ and we currently know of no additional producers/exporters of subject merchandise from Malaysia. Accordingly, Commerce intends to examine all known producers/exporters in this investigation (i.e., CS Wind Malaysia). Interested parties that wish to comment on this selection, or on the CBP data, may do so within three business days of the publication date of this notice. Commerce will not accept rebuttal comments regarding the CBP data or respondent selection.

³⁶ See Volume I of the Petitions at Exhibit I-17

³⁷ Memorandum, “Antidumping Duty Petition on Utility Scale Wind Towers from Malaysia: Release of Customs Data from U.S. Customs and Border Protection,” dated November 2, 2020.

Comments on CBP data and respondent selection must be filed electronically using ACCESS. An electronically filed document must be received successfully in its entirety via ACCESS by 5:00 p.m. ET on the specified deadline.

Distribution of Copies of the Petitions

In accordance with section 732(b)(3)(A) of the Act and 19 CFR 351.202(f), copies of the public version of the Petitions have been provided to the governments of India, Malaysia, and Spain via ACCESS. To the extent practicable, we will attempt to provide a copy of the public version of the Petitions to each exporter named in the Petitions, as provided under 19 CFR 351.203(c)(2).

ITC Notification

Commerce will notify the ITC of its initiation, as required by section 732(d) of the Act.

Preliminary Determinations by the ITC

Typically, the ITC will preliminarily determine, within 45 days after the date on which the Petitions were filed, whether there is a reasonable indication that subject imports are materially injuring or threatening material injury to a U.S. industry.³⁸ Here, due to Commerce's extension of time to conduct polling and analyze industry support for the Petitions, the ITC has extended the time for issuance of its preliminary determination.³⁹ The ITC's preliminary determination is now due on December 4, 2020.⁴⁰

³⁸ See section 733(a) of the Act; see also Utility Scale Wind Towers from India, Malaysia, and Spain; Institution of Anti-Dumping and Countervailing Duty Investigations and Scheduling of Preliminary Phase Investigations, 85 FR 63137 (October 6, 2020).

³⁹ See Utility Scale Wind Towers From India, Malaysia, and Spain Revised Schedule for the Subject Investigations, 85 FR 67372 (October 22, 2020).

⁴⁰ Id.

A negative ITC determination for any country will result in the investigation being terminated with respect to that country.⁴¹ Otherwise, these LTFV investigations will proceed according to statutory and regulatory time limits.

⁴¹ Id.

Submission of Factual Information

Factual information is defined in 19 CFR 351.102(b)(21) as: (i) Evidence submitted in response to questionnaires; (ii) evidence submitted in support of allegations; (iii) publicly available information to value factors under 19 CFR 351.408(c) or to measure the adequacy of remuneration under 19 CFR 351.511(a)(2); (iv) evidence placed on the record by Commerce; and (v) evidence other than factual information described in (i)-(iv). Section 351.301(b) of Commerce's regulations requires any party, when submitting factual information, to specify under which subsection of 19 CFR 351.102(b)(21) the information is being submitted ⁴² and, if the information is submitted to rebut, clarify, or correct factual information already on the record, to provide an explanation identifying the information already on the record that the factual information seeks to rebut, clarify, or correct.⁴³ Time limits for the submission of factual information are addressed in 19 CFR 351.301, which provides specific time limits based on the type of factual information being submitted. Interested parties should review the regulations prior to submitting factual information in these investigations.

⁴² See 19 CFR 351.301(b).

⁴³ See 19 CFR 351.301(b)(2).

Particular Market Situation Allegation

Section 773(e) of the Act addresses the concept of particular market situation (PMS) for purposes of CV, stating that “if a particular market situation exists such that the cost of materials and fabrication or other processing of any kind does not accurately reflect the cost of production in the ordinary course of trade, the administering authority may use another calculation methodology under this subtitle or any other calculation methodology.” When an interested party submits a PMS allegation pursuant to section 773(e) of the Act, Commerce will respond to such a submission consistent with 19 CFR 351.301(c)(2)(v). If Commerce finds that a PMS exists under section 773(e) of the Act, then it will modify its dumping calculations appropriately.

Neither section 773(e) of the Act, nor 19 CFR 351.301(c)(2)(v), set a deadline for the submission of PMS allegations and supporting factual information. However, in order to administer section 773(e) of the Act, Commerce must receive PMS allegations and supporting factual information with enough time to consider the submission. Thus, should an interested party wish to submit a PMS allegation and supporting new factual information pursuant to section 773(e) of the Act, it must do so no later than 20 days after submission of a respondent's initial section D questionnaire response.

Extensions of Time Limits

Parties may request an extension of time limits before the expiration of a time limit established under 19 CFR 351.301, or as otherwise specified by Commerce. In general, an extension request will be considered untimely if it is filed after the expiration of the time limit established under 19 CFR 351.301. For submissions that are due from multiple parties simultaneously, an extension request will be considered untimely if it is filed after 10:00 a.m. ET on the due date. Under certain circumstances, we may elect to specify a different time limit by which extension requests will be considered untimely for submissions which are due from multiple parties simultaneously. In such a case, we will inform parties in a letter or memorandum of the deadline (including a specified time) by which extension requests must be filed to be considered timely. An extension request must be made in a separate, stand-alone submission; Commerce will grant untimely filed requests for the extension of time limits only in limited cases where we determine, based on 19 CFR 351.302, that extraordinary circumstances exist. Parties should review Extension of Time Limits; Final Rule, 78 FR 57790 (September 20, 2013), available at http://www.gpo.gov/fdsys/pkg/FR-2013-09-20/html/2013-22853.htm, prior to submitting factual information in these investigations.

Certification Requirements

Any party submitting factual information in an AD or CVD proceeding must certify to the accuracy and completeness of that information.⁴⁴ Parties must use the certification formats provided in 19 CFR 351.303(g).⁴⁵ Commerce intends to reject factual submissions if the submitting party does not comply with the applicable certification requirements.

⁴⁴ See section 782(b) of the Act.

⁴⁵ See Certification of Factual Information to Import Administration During Antidumping and Countervailing Duty Proceedings, 78 FR 42678 (July 17, 2013) (Final Rule). Answers to frequently asked questions regarding the Final Rule are available at http://enforcement.trade.gov/tlei/notices/factual_info_final_rule_FAQ_07172013.pdf.

Notification to Interested Parties

Interested parties must submit applications for disclosure under APO in accordance with 19 CFR 351.305. Parties wishing to participate in these investigations should ensure that they meet the requirements of 19 CFR 351.103(d) (e.g., by filing the required letter of appearance). Note that Commerce has temporarily modified certain of its requirements for serving documents containing business proprietary information, until further notice.⁴⁶

⁴⁶ See Temporary Rule Modifying AD/CVD Service Requirements Due to COVID-19; Extension of Effective Period, 85 FR 41363 (July 10, 2020).

This notice is issued and published pursuant to sections 732(c)(2) and 777(i) of the Act, and 19 CFR 351.203(c).

Dated: November 9, 2020.
Jeffrey I. Kessler,
Assistant Secretary for Enforcement and Compliance.

Appendix

Scope of the Investigations

The merchandise covered by these investigations consists of certain wind towers, whether or not tapered, and sections thereof. Certain wind towers support the nacelle and rotor blades in a wind turbine with a minimum rated electrical power generation capacity in excess of 100 kilowatts and with a minimum height of 50 meters measured from the base of the tower to the bottom of the nacelle (i.e., where the top of the tower and nacelle are joined) when fully assembled.

A wind tower section consists of, at a minimum, multiple steel plates rolled into cylindrical or conical shapes and welded together (or otherwise attached) to form a steel shell, regardless of coating, end-finish, painting, treatment, or method of manufacture, and with or without flanges, doors, or internal or external components (e.g., flooring/decking, ladders, lifts, electrical buss boxes, electrical cabling, conduit, cable harness for nacelle generator, interior lighting, tool and storage lockers) attached to the wind tower section. Several wind tower sections are normally required to form a completed wind tower.

Wind towers and sections thereof are included within the scope whether or not they are joined with nonsubject merchandise, such as nacelles or rotor blades, and whether or not they have internal or external components attached to the subject merchandise.

Specifically excluded from the scope are nacelles and rotor blades, regardless of whether they are attached to the wind tower. Also excluded are any internal or external components which are not attached to the wind towers or sections thereof, unless those components are shipped with the tower sections.

Merchandise covered by these investigations is currently classified in the Harmonized Tariff Schedule of the United States (HTSUS) under subheading 7308.20.0020 or 8502.31.0000. Wind towers of iron or steel are classified under HTSUS 7308.20.0020 when imported separately as a tower or tower section(s). Wind towers may be classified under HTSUS 8502.31.0000 when imported as combination goods with a wind turbine (i.e., accompanying nacelles and/or rotor blades). While the HTSUS subheadings are provided for convenience and customs purposes, the written description of the scope of these investigations is dispositive.

[FR Doc. 2020-25226 Filed 11-13-20; 8:45 am]

BILLING CODE 3510-DS-P